DEPARTMENT OF COMMERCE

International Trade Administration

[C-533-063]

Certain Iron-Metal Castings From India: Amended Final Results of Countervailing Duty Administrative Review Pursuant to Settlement

AGENCY: Import Administration, International Trade Administration, Department of Commerce.

ACTION: Notice of amendment to final results of countervailing duty administrative review.

SUMMARY: On August 22, 1991, the Department of Commerce (“the Department”) published in the Federal Register its final results of administrative review of the countervailing duty order on certain iron-metal castings from India for the period 1987 (56 FR 41658). Pursuant to a settlement agreement, the Department has recalculated the countervailing duty rates. The final countervailing duty rates for this review period are listed below in the Final Results of Review section of this notice.

EFFECTIVE DATE: February 4, 2000.

FOR FURTHER INFORMATION CONTACT: Robert Copyak, Office 6, Group II, Import Administration, International Trade Administration, U.S. Department of Commerce, 14th Street and Constitution Avenue, NW Washington, DC 20230; telephone: (202) 482-2786.

SUPPLEMENTARY INFORMATION: On August 22, 1991, the Department published the final results of its administrative review of the countervailing duty order on certain iron-metal castings from India for the period January 1, 1987 through December 31, 1987. See Final Results of Countervailing Duty Administrative Review: Certain Iron-Metal Castings from India, 56 FR 41658. Subsequently, respondents challenged the final results before the Court of International Trade (CIT). The primary issue involved the calculation of the program rates for the subsidies provided under India's International Price Reimbursement Scheme (IPRS). The IPRS is a program through which the Government of India (GOI) provided rebates to castings exporters that purchased domestically-produced pig iron at prices set by the GOI. According to the GOI, these rebates were calculated to equal the differences between the higher domestic prices actually paid and the lower alternative prices available from sources outside of India.

As the IPRS was also the subject of litigation for the review period 1985 in Creswell v. United States, Consolidated Court No. 91-01-00012 (Creswell), litigation for the review period 1987 was stayed pending finalization of Creswell. After the CIT affirmed the Department's remand determination for the 1985 administrative review (see Creswell, slip op. 98-139 (CIT Sept. 29, 1998)), the Department published a notice of amended final results in accordance with that opinion. See Certain Iron-metal Castings from India: Amended Final Results of Countervailing Duty Administrative Review In Accordance With Decision Upon Remand, 63 FR 67858 (December 9, 1998). In lieu of pursuing further litigation with respect to the administrative review of the review period 1987, the parties have entered into a settlement agreement. The parties agreed to countervailing duty rates that were calculated based on the methodology approved by the CIT in Creswell. On December 10, 1999, the CIT approved the settlement agreement and dismissed the lawsuit. See Super Castings, v. United States, Slip Op. 99-131, Consol. Ct. No. 91-09-00659 (CIT December 10, 1999).

Final Results of Review

Pursuant to the settlement agreement, we recalculated the company-specific and all-other subsidy rates for the period January 1, 1987, through December 31, 1987. The amended final countervailing duty rates are:

Manufacturer/exporter | Revised rates (%)
Crescent Foundry Co. Pvt. Ltd. | 8.25
Kejriwal Iron & Steel Works | 7.18
RSI India Pvt. Ltd. | 9.42
Uma Iron & Steel Co. | 7.56
Super Castings (India) | 37.96
Select Steel | 37.17
Commex | 24.39
All Others | 18.62

The Department will instruct the U.S. Customs Service (Customs) to assess countervailing duties on all appropriate entries. The Department will issue liquidation instructions directly to Customs. The above rates will not affect the cash deposit requirements currently in effect.

This amendment to the final results of countervailing duty administrative review notice is in accordance with section 751(a)(1) of the Tariff Act, as amended (19 U.S.C. 1675(a)(1)), 19 CFR 351.213, and 19 CFR 351.221(b)(5).

Dated: January 24, 2000.
Robert S. LaRussa,
Assistant Secretary for Import Administration.

[FR Doc. 00-2579 Filed 2-3-00; 8:45 am]

BILLING CODE 3510-DS-P